GENERAL SERVICES ADMINISTRATION

41 CFR Part 102-117

[FMR Case 2014-102-2; Docket 2014-0015; Sequence 1]

RIN 3090-AJ45

Federal Management Regulation (FMR); Transportation Management; Transportation Reporting

AGENCY: Office of Government-wide Policy (OGP), General Services Administration (GSA).

ACTION: Proposed rule.

SUMMARY: GSA is proposing to amend the Federal Management Regulation (FMR) to recommend that agencies annually submit a Federal Transportation Summary for prior fiscal year transportation activities for freight and cargo, including household goods (HHG). Every process improvement effort relies on data to provide a factual basis for making decisions. Data collection improves decision-making by helping to focus on objective information rather than subjective opinions. Agencies that choose to report will submit a Federal Transportation Summary through a Web-based tool named the Federal Interagency Transportation System (FITS). Reported items include agencies' data on transportation management, training, and shipments/expenditures by procurement method, spending, environmental/sustainable factors and shipping profile. This proposed rule, if adopted, will provide GSA the summary data necessary for analysis, which will assist GSA in developing enhanced Governmentwide transportation policies to make transportation management programs more efficient, cost-effective, and sustainable.

DATES: Interested parties should submit written comments to the Regulatory Secretariat at one of the addresses shown below on or before October 15, 2014 to be considered in the formation of the final rule.

ADDRESSES: Submit comments in response to FMR Case 2014-102-2 by any of the following methods:

• Regulations.gov: http://www.regulations.gov. Submit comments via the Federal eRulemaking Portal by searching for “FMR Case 2014-102-2,” and selecting the link that corresponds with “FMR case 2014-102-2.” Follow the instructions provided at the “Comment Now” screen. Please include your name, company name (if any), and “FMR Case 2014-102-2” on your attached document.

• Fax: (202) 501-4067.

• Mail: General Services Administration, Regulatory Secretariat Division (MVCB), 1800 F Street NW., 2nd Floor, ATTN: Hada Flowers, Washington, DC 20405-0001.

Instructions: Please submit comments only and cite FMR Case 2014-102-2, on all correspondence related to this case. All comments received will be posted without change to http://www.regulations.gov, including any personal and/or business confidential information provided.

FOR FURTHER INFORMATION CONTACT: For clarification of content, contact Ms. Lee Gregory, Office of Government-wide Policy, at (202) 507-0871 or by email at lee.gregory@gsa.gov. For information pertaining to status or publication schedules, contact the Regulatory Secretariat at 202-501-4755. Please cite FMR Case 2014-102-2.

SUPPLEMENTARY INFORMATION:

A. Background

In almost every purchase of supplies and equipment from vendors, something must be moved and delivered. Since the early 1860s, the Federal Government has procured transportation using either a contract or a tender of service (also called a rate tender). There are Federal transportation laws and regulations that govern each of the five modes of transportation (air, water, pipeline, rail, and ground). Each mode has advantages and disadvantages that should be evaluated for cost, sustainability, speed of delivery, etc. The expense of moving this freight or cargo, including HHG, can be managed by the agency, consolidated as a shared service across agencies, or the transportation service provider (TSP), depending upon the contract or tender of service terms.

Over the last several years, GSA has worked with the Governmentwide Transportation Policy Council (GTPC) to identify key transportation performance measures, data elements, and collection standards necessary for more informed decision-making. The GTPC is composed of representatives from civilian agencies and the Department of Defense, and provides guidance in the planning and development of uniform transportation policies and procedures. The GTPC supports data collection as a necessary first step to improve transportation management.

In 2009, GSA contracted for a Governmentwide transportation management study. The study concluded that “most agencies have no single point of accountability for outbound transportation, have limited transparency into actual expenditures, and usually do not identify the most appropriate procurement method.” The study also identified inadequate research into the acquisition and selection of a transportation service provider (TSP), and a lack of standard training, expertise, and operational approaches to transportation management. A 2012 GSA study identified the need for reliable Governmentwide transportation data.

Best in class organizations exhibit a consistent set of behaviors to identify and implement improved processes that maximize the efficiency, cost effectiveness, and sustainability of their transportation operations. Organizations seeking continuous improvement monitor, measure and compare their performance against other organizations to improve their return on investment, generate greater savings, enhance their supply chain and improve sustainability. GSA is proposing to revise the FMR to recommend agencies annually submit a Federal Transportation Summary for prior fiscal year transportation activities for freight and cargo, including household goods. The data collected and reported will help agencies and GSA improve management, transportation services, and policy.

B. Changes

This proposed rule:

• Would revise 41 CFR part 102-117, subpart K, to recommend annual reporting of transportation data.

• Would redesignate the sections in 41 CFR part 102-117, subpart L.

C. Executive Orders 12866 and 13563

Executive Orders (E.O.) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action, and therefore, will not be subject to review under Section 6(b) of E.O. 12866, Regulatory Planning and Review, dated September 30, 1993. This proposed rule is not a major rule under 5 U.S.C. 804.

D. Regulatory Flexibility Act

These revisions are not substantive, and therefore, this proposed rule would not have a significant economic impact on a substantial number of small entities within the meaning of the Regulatory Flexibility Act, 5 U.S.C. 601, et seq. The proposed rule is also exempt from the Administrative Procedure Act per 5 U.S.C. 553(a)(2), because it applies to agency management or personnel.

E. Paperwork Reduction Act

The Paperwork Reduction Act does not apply because the proposed changes to the FMR do not impose recordkeeping or information collection requirements, or the collection of information from offerors, contractors, or members of the public that require the approval of the Office of Management and Budget under 44 U.S.C. 3501, et seq.

F. Small Business Regulatory Enforcement Fairness Act

This proposed rule is also exempt from Congressional review prescribed under 5 U.S.C. 801 since it relates to agency management or personnel.

List of Subjects in 41 CFR Part 102-117

Transportation Management, Transportation Reporting.

Dated: June 18, 2014.
Christine J. Harada,
Associate Administrator.

For the reasons set forth in the preamble, GSA proposes to amend 41 CFR part 102-117 as follows:

PART 102-117—TRANSPORTATION MANAGEMENT

1. The authority citation for 41 CFR part 102-117 continues to read as follows:

Authority: 31 U.S.C. 3726; 40 U.S.C. 121(c); 40 U.S.C. 501, et seq.; 46 U.S.C. 55305; 49 U.S.C. 40118.

102-117.355 [Redesignated as 102-117.361]

2. In Subpart L, redesignate 102-117.355 as 102-117.361.

102-117.360 [Redesignated as 102-117.362]

3. In Subpart L, redesignate 102-117.360 as 102-117.362.

4. Revise Subpart K to read as follows:

Subpart K—Transportation Reporting
Sec.
102-117.345 What is the Federal Transportation Summary?
102-117.350 Do I have to report?
102-117.355 Why should I report?
102-117.360 How do I submit information to GSA for the Federal Transportation Summary?

Subpart K—Transportation Reporting

102-117.345 What is the Federal Transportation Summary?

(a) The Federal Transportation Summary is an annual summary of an agency's prior fiscal year transportation data for freight and cargo, including household goods (HHG). Reported items include agencies' data on transportation management, training, and shipments/expenditures by procurement method, spending, environmental/sustainable factors and shipping profile.

(b) Agencies that choose to report should submit their Federal Transportation Summary through a Web-based tool named the Federal Interagency Transportation System (FITS). It is anticipated that agencies will upload some data from operational transportation systems, while other data will be reported directly into FITS. Agencies' Federal Transportation Summaries will provide GSA the data necessary for analysis that will result in enhanced transportation policies for delivering a more efficient, cost-effective, sustainable, and accountable Government. The data will also allow agency benchmarking to drive improvement.

102-117.350 Do I have to report?

No; however, all Chief Financial Officer (CFO) Act agencies are strongly encouraged to submit annually an agency-wide Federal Transportation Summary for the preceding fiscal year through FITS by October 31.

102-117.355 Why should I report?

(a) Reporting transportation and transportation-related services will provide GSA with:

(1) Data to assess the magnitude and key characteristics of transportation within the Government (e.g., how much agencies spend; what type of commodity is shipped; most used lanes, etc.), and

(2) Data to analyze and recommend changes to policies, standards, practices, and procedures to improve Government transportation.

(b) Agencies that choose to report may identify opportunities within their organization to improve transportation management program performance as a result of the data analytics.

102-117.360 How do I submit information to GSA for the Federal Transportation Summary?

GSA will post a Federal Management Regulation bulletin at http://gsa.gov/fmrbulletintransportation, which will provide information regarding FITS, detail the submission process, including data requested, and provide information concerning available training.

[FR Doc. 2014-16817 Filed 7-16-14; 8:45 am]

BILLING CODE 6820-14-P